DEPARTMENT OF TRANSPORTATION

National Highway Traffic Safety Administration

[DOCKET NO. NHTSA 2005-20046; Notice 1]

Bridgestone/Firestone North America Tire, LLC. Receipt of Application for Decision of Inconsequential Noncompliance

Bridgestone/Firestone North America Tire, LLC has determined that approximately 757 size P175/65R14, Bridgestone WS50Z tires do not meet the labeling requirements mandated by Federal Motor Vehicle Safety Standard (FMVSS) No. 109, “New Pneumatic Tires.”

Pursuant to 49 U.S.C. 30118(d) and 30120(h), Bridgestone/Firestone has petitioned for a determination that this noncompliance is inconsequential to motor vehicle safety and has filed an appropriate report pursuant to 49 CFR Part 573, “Defect and Noncompliance Reports.” FMVSS No. 109 (S4.3 (e)) requires that each tire shall have permanently molded into or onto both sidewalls the actual number of plies in the sidewall, and the actual number of plies in the tread area if different.

The noncompliance with S4.3 (e) relates to the sidewall markings. Bridgestone/Firestone Nasu, Japan Plant produced approximately 937 tires with incorrect markings during the DOT weeks of 2702, 1203, and 1303. The noncompliant tires were marked: “2 STEEL & 1 PLY.” The correct marking required by FMVSS No. 109 is as follows: “2 STEEL & 1 PLY & 1 NYLON.”

Bridgestone/Firestone stated that the noncompliant tires were actually constructed with more polyester sidewall plies than indicated on the sidewall marking. Therefore, Bridgestone/Firestone believes this noncompliance is particularly unlikely to have an adverse affect on motor vehicle safety and is clearly inconsequential in that regard. The noncompliant tires meet or exceed all performance requirements of FMVSS No. 109 and will have no impact on the operational performance or safety of vehicles on which these tires are mounted.

Interested persons are invited to submit written data, views, and arguments on the application described above. Comments should refer to the docket number and be submitted to: U.S. Department of Transportation, Docket Management, Room PL-401, 400 Seventh Street, SW., Washington, DC 20590. It is requested that two copies be submitted.

All comments received before the close of business on the closing date indicated below will be considered. The application and supporting materials, and all comments received after the closing date, will also be filed and will be considered to the extent possible. When the application is granted or denied, the notice will be published in the Federal Register pursuant to the authority indicated below. Comment closing date: March 3, 2005.

(49 U.S.C. 301118, 301120; delegations of authority at 49 CFR 1.50 and 501.8)
Issued on: January 25, 2005.
Stephen R. Kratzke,
Associate Administrator for Rulemaking.

[FR Doc. 05-1758 Filed 1-31-05; 8:45 am]

BILLING CODE 4910-59-P